DEPARTMENT OF LABOR

Employment and Training Administration

[TA-W-60,916]

AVX Corporation Raleigh, NC; Notice of Termination of Investigation

Pursuant to Section 221 of the Trade Act of 1974, as amended, an investigation was initiated on February 7, 2007 in response to a petition filed by a company official on behalf of workers at AVX Corporation, Raleigh, North Carolina.

The petitioner has requested that the petition be withdrawn. Consequently, the investigation has been terminated.

Signed at Washington, DC, this 9th day of February, 2007.
Linda G. Poole,
Certifying Officer, Division of Trade Adjustment Assistance.

[FR Doc. E7-2865 Filed 2-20-07; 8:45 am]

BILLING CODE 4510-FN-P